DEPARTMENT OF ENERGY

Federal Energy Regulatory Commission

[Docket No. PF14-22-000]

Tennessee Gas Pipeline Company, L.L.C.; Notice of Intent To Prepare an Environmental Impact Statement for the Planned Northeast Energy Direct Project, Request for Comments on Environmental Issues, and Notice of Public Scoping Meetings

The staff of the Federal Energy Regulatory Commission (FERC or Commission) will prepare an environmental impact statement (EIS) that will discuss the environmental impacts of the Northeast Energy Direct Project (Project) involving construction and operation of facilities by Tennessee Gas Pipeline Company, L.L.C. (Tennessee Gas) in Pennsylvania, New York, Massachusetts, New Hampshire, and Connecticut. The Commission will use this EIS in its decision-making process to determine whether the Project is in the public convenience and necessity.

This notice announces the opening of the scoping process the Commission will use to gather input from the public and interested agencies on the Project. You can make a difference by providing us with your specific comments or concerns about the Project. Your comments should focus on the potential environmental effects, reasonable alternatives, and measures to avoid or lessen environmental impacts. Your input will help the Commission staff determine what issues they need to evaluate in the EIS. To ensure that your comments are timely and properly recorded, please send your comments so that the Commission receives them in Washington, DC, on or before August 31, 2015.

If you sent comments on this project to the Commission before the opening of this docket on September 15, 2014, you will need to file those comments in Docket No. PF14-22-000 to ensure they are considered as part of this proceeding.

This notice is being sent to the Commission's current environmental mailing list for this Project. State and local government representatives should notify their constituents of this planned Project and encourage them to comment on their areas of concern.

If you are a landowner receiving this notice, a Tennessee Gas representative may contact you about the acquisition of an easement to construct, operate, and maintain the planned facilities. The company would seek to negotiate a mutually acceptable agreement. However, if the Commission approves the Project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site for Citizen's Guides (http://www.ferc.gov/for-citizens/citizen-guides.asp). This fact sheet addresses a number of typically asked questions, including the use of eminent domain and how to participate in the Commission's proceedings.

Public Participation

For your convenience, there are four methods you can use to submit your comments to the Commission. The Commission will provide equal consideration to all comments received, whether filed in written form or provided verbally. The Commission encourages electronic filing of comments and has expert staff available to assist you at (202) 502-8258 or efiling@ferc.gov. Please carefully follow these instructions so that your comments are properly recorded.

You can file your comments electronically using the eComment feature on the Commission's Web site (www.ferc.gov) under the link to Documents and Filings. This is an easy method for interested persons to submit brief, text-only comments on a project;

You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type;

You can file a paper copy of your comments by mailing them to the following address: Kimberly D. Bose, Secretary, Federal Energy Regulatory Commission, 888 First Street NE., Room 1A, Washington, DC 20426.

Be sure to reference the Project docket number PF14-22-000 with your submission; or

In lieu of sending written or electronic comments, the Commission invites you to attend one of the public scoping meetings its staff will conduct in the Project area, scheduled as follows.

FERC Public Scoping Meetings
Date and time | Location | Location
Tuesday, July 14, 2015, 7:00 p.m | Towanda Jr./Sr. High School, 1 High School Drive, Towanda, PA 18848, (570) 265-2101 | Birch Hill Catering, 1 Celebration Way, Castleton-on-Hudson, NY 12033, (518) 732-4444.
Wednesday, July 15, 2015, 6:30 p.m | VFW, 386 Main St., Great Bend, PA 18848, (570) 879-4420 | Birch Hill Catering, 1 Celebration Way, Castleton-on-Hudson, NY 12033, (518) 732-4444.
Thursday, July 16, 2015, 7:00 p.m | Foothills Performing Arts Center, 24 Market St., Oneonta, NY 13820, (607) 431-2080 | Days Inn, 160 Holiday Way, Schoharie, NY 12157, (518) 295-6088.
Tuesday, July 28, 2015, 7:00 p.m | Taconic High School, 96 Valentine Rd., Pittsfield, MA 01201, (413) 448-9600.
Wednesday, July 29, 2015, 6:30 p.m | Nashua Radisson, 11 Tara Blvd., Nashua, NH 03062, (603) 888-9970 | Greenfield Middle School, 141 Davis St., Greenfield, MA 01301, (413) 772-1360.
Thursday, July 30, 2015, 6:30 p.m | Milford Town Hall, Town Hall, One Union Square, Milford, NH 03055, (603) 249-0600 | Central Connecticut State University, 1615 Stanley St., New Britain, CT 06050, (860) 832-3200.
Tuesday, August 11, 2015, 7:00 p.m | Dracut Senior High School, 1540 Lakeview Ave., Dracut, MA 01826, (978) 957-1500.
Wednesday, August 12, 2015, 7:00 p.m | Lunenburg High School, 1079 Massachusetts Ave., Lunenburg, MA 01462, (978) 582-4115.

Please note that on five nights (July 14-16 and July 29-30), meetings will be held concurrently in two different locations. The same information will be presented at all of the meetings.

We ¹ are planning on holding one additional scoping meeting near Winchester, New Hampshire, during the week of July 27-31, 2015. We will announce this meeting with a future notice once the location is finalized.

¹ “We,” “us,” and “our” refer to the environmental staff of the Commission's Office of Energy Projects.

We will begin our sign up of speakers one hour prior to the start of each meeting. The scoping meetings will begin with a description of our environmental review process by Commission staff, after which speakers will be called. Each meeting will end once all speakers have provided their comments or when our contracted time for the facility closes. Please note that there may be a time limit to present comments (no less than 3 minutes), and speakers should structure their comments accordingly. If time limits are implemented, they will be strictly enforced to ensure that as many individuals as possible are given an opportunity to comment. The meetings will be recorded by a stenographer to ensure comments are accurately recorded. Transcripts will be entered into the formal record of the Commission proceeding.

Please note that this is not your only public input opportunity; please refer to the review process flow chart in appendix 1.²

² The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Summary of the Planned Project

Tennessee Gas plans to construct and operate approximately 412 miles of new natural gas transmission pipeline and associated facilities in Pennsylvania, New York, Massachusetts, New Hampshire, and Connecticut. This Project would also involve modifications at existing compressor and meter stations and construction of 9 new compressor stations, 14 new meter stations, and various appurtenant facilities. These facilities would be capable of providing 2.2 billion cubic feet per day of capacity to transport natural gas to markets in the northeastern United States and Canada.

The pipeline planned for construction includes supply path and market path components. The Supply Path component would deliver gas from the existing Tennessee Gas 300 Line to its existing 200 Line near Wright, New York. The Supply Path would include approximately 135 miles in Pennsylvania and New York, as well as 32 miles of pipeline loop along the 300 Line in Pennsylvania.

The Market Path would include approximately 188 miles of pipeline extending from Wright, New York, into Massachusetts and New Hampshire and then ending in Dracut, Massachusetts. The Market Path would generally be collocated with existing linear infrastructure.

In addition, the Project would include construction of nine pipeline laterals, loops,³ or delivery lines in Massachusetts (38 miles), Connecticut (15 miles), and New Hampshire (7 miles) to provide natural gas to local markets.

³ A pipeline loop is a segment of pipe constructed parallel to an existing pipeline to increase capacity.

The general location of the Project facilities is shown in appendix 2.

Land Requirements for Construction

Construction of the planned facilities would disturb about 6,761 acres of land for the pipeline and aboveground facilities, not including temporary access roads which are not yet determined. Following construction, Tennessee Gas would maintain about 2,602 acres for permanent operation of the Project's facilities, not including permanent access roads; the remaining acreage would be restored and revert to former uses. About 82 percent of the planned pipeline route parallels existing pipeline and utility rights-of-way.

The EIS Process

The National Environmental Policy Act (NEPA) requires the Commission to take into account the environmental impacts that could result from an action whenever it considers the issuance of a Certificate of Public Convenience and Necessity. NEPA also requires us to discover and address concerns the public may have about proposals. This process is referred to as scoping. The main goal of the scoping process is to focus the analysis in the EIS on the important environmental issues. By this notice, the Commission requests public comments on the scope of the issues to address in the EIS. We will consider all filed comments during the preparation of the EIS.

In the EIS we will discuss impacts that could occur as a result of the construction and operation of the planned Project under these general headings:

Geology and soils;

water resources and wetlands;

vegetation and wildlife;

cultural resources;

land use, recreation, and visual resources;

socioeconomics;

air quality and noise;

cumulative impacts; and

public safety.

As part of our analysis under NEPA, we will consider or recommend measures to avoid, minimize, or mitigate impacts on specific resources. We will also evaluate possible alternatives to the planned Project or portions of the Project. Tennessee Gas has proposed a number of alternatives, developed through the company's route selection process or identified by stakeholders, in draft Resource Report 10 filed with the FERC in Docket No. PF14-22-000 on March 13, 2015. During scoping, we are specifically soliciting comments on the range of alternatives for the Project.

Although no formal application has been filed, we have already initiated our environmental review under the Commission's pre-filing process. The purpose of the pre-filing process is to encourage early involvement of interested stakeholders and to identify and resolve issues before the FERC receives a formal application from Tennessee Gas. During the pre-filing process, we have contacted federal and state agencies to discuss their involvement in scoping and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section, beginning on page 2.

With this notice, we are asking agencies with jurisdiction by law and/or special expertise with respect to the environmental issues related to this Project to formally cooperate with us in the preparation of the EIS.⁴ Agencies that would like to request cooperating agency status should follow the instructions for filing comments provided under the Public Participation section of this notice.

⁴ The Council on Environmental Quality regulations addressing cooperating agency responsibilities are at Title 40, Code of Federal Regulations, Part 1501.6.

Consultations Under Section 106 of the National Historic Preservation Act

In accordance with the Advisory Council on Historic Preservation's implementing regulations for Section 106 of the National Historic Preservation Act, we are using this notice to initiate consultation with the applicable State Historic Preservation Offices (SHPOs), and to solicit their views and those of other government agencies, interested Indian tribes, and the public on the project's potential effects on historic properties.⁵ We will define the Project-specific Area of Potential Effects (APE) in consultation with the SHPOs as the Project develops. On natural gas facility projects, the APE at a minimum encompasses all areas subject to ground disturbance (examples include construction right-of-way, contractor/pipe storage yards, compressor stations, and access roads). Our EIS for this Project will document our findings on the impacts on historic properties and summarize the status of consultations under Section 106.

⁵ The Advisory Council on Historic Preservation regulations are at Title 36, Code of Federal Regulations, Part 800. Those regulations define historic properties as any prehistoric or historic district, site, building, structure, or object included in or eligible for inclusion in the National Register of Historic Places.

Environmental Mailing List

The environmental mailing list includes federal, state, and local government representatives and agencies; elected officials; environmental and public interest groups; Indian tribes and Native American organizations; other interested parties; and local libraries and newspapers. This list also includes all affected landowners (as defined in the Commission's regulations) who are potential right-of-way grantors, whose property may be used temporarily for Project purposes, or who own homes within certain distances of aboveground facilities, and anyone who provides a mailing address when they submit comments on the Project. We will update the environmental mailing list as the analysis proceeds to ensure that we send the information related to this environmental review to all individuals, organizations, and government entities interested in and/or potentially affected by the planned Project.

Copies of the draft EIS will be sent to the environmental mailing list for public review and comment. If you would prefer to receive a paper copy of the document instead of the CD version or would like to remove your name from the mailing list, please return the attached Information Request (appendix 3).

Becoming an Intervenor

Once Tennessee Gas files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the Project.

Additional Information

Additional information about the Project is available from the Commission's Office of External Affairs, at (866) 208-FERC, or on the FERC Web site (www.ferc.gov) using the eLibrary link. Click on the eLibrary link, click on “General Search” and enter the docket number, excluding the last three digits in the Docket Number field (i.e., PF14-22-000). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: June 30, 2015.
Kimberly D. Bose,
Secretary.

[FR Doc. 2015-16686 Filed 7-7-15; 8:45 am]

BILLING CODE 6717-01-P